NUCLEAR REGULATORY COMMISSION

[NRC-2008-0638]

Notice of Issuance of Regulatory Guide

AGENCY: Nuclear Regulatory Commission.

ACTION: Notice of Issuance and Availability of Regulatory Guide 1.151, Revision 1, “Instrument Sensing Lines.”

FOR FURTHER INFORMATION CONTACT: Karl J. Sturzebecher, U.S. Nuclear Regulatory Commission, Washington, DC 20555-0001, telephone (301) 251-7494 or e-mail Karl.Sturzebecher@nrc.gov.

SUPPLEMENTARY INFORMATION:

I. Introduction

The U.S. Nuclear Regulatory Commission (NRC) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Revision 1 of Regulatory Guide 1.151 was issued with a temporary identification as Draft Regulatory Guide, DG-1178. This guide describes a method that the staff of the NRC considers acceptable for use in complying with the agency's regulations with respect to the design and installation of safety-related instrument sensing lines in nuclear power plants. To meet these objectives, the sensing lines must serve a safety-related function to prevent the release of reactor coolant as a part of the reactor coolant pressure boundary and to provide adequate connections to the reactor coolant system for measuring process variables (e.g., pressure, level, and flow). The term “safety-related” refers to those structures, systems, and components necessary to ensure (1) the integrity of the reactor coolant pressure boundary, (2) the capability to shut down the reactor and maintain it in a safe-shutdown condition, or (3) the capability to prevent or mitigate the consequences of accidents that could result in potential offsite exposures comparable to the guideline exposures in Title 10, of the Code of Federal Regulations, Part 100, “Reactor Site Criteria” (10 CFR Part 100).

II. Further Information

In December 2008, DG-1178 was published with a public comment period of 60 days from the issuance of the guide. The public comment period closed on February 6, 2009. The staff's responses to the comments received are located in the NRC's Agencywide Documents Access and Management System (ADAMS) under Accession No. ML092330222. The regulatory analysis may be found in ADAMS under Accession No. ML102040145. Electronic copies of Regulatory Guide 1.151, Revision 1 are available through the NRC's public Web site under “Regulatory Guides” at http://www.nrc.gov/reading-rm/doc-collections/.

In addition, regulatory guides are available for inspection at the NRC's Public Document Room (PDR) located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr.resource@nrc.gov.

Regulatory guides are not copyrighted, and NRC approval is not required to reproduce them.

Dated at Rockville, Maryland, this 23rd day of July 2010.
For the Nuclear Regulatory Commission.
Harriet Karagiannis,
Acting Chief, Regulatory Guide Development Branch, Division of Engineering, Office of Nuclear Regulatory Research.

[FR Doc. 2010-18886 Filed 7-30-10; 8:45 am]

BILLING CODE 7590-01-P